DEPARTMENT OF VETERANS AFFAIRS

Privacy Act of 1974

AGENCY: Department of Veterans Affairs.

ACTION: Notice of Amendment of System of Records “National Patient Databases-VA” (121VA10P2).

SUMMARY: As required by the Privacy Act of 1974 (5 U.S.C. 552a(e)(4)), notice is hereby given that the Department of Veterans Affairs (VA) is amending the system of records entitled “National Patient Databases-VA” (121VA10P2) as set forth in 77 FR 27863. VA is amending the system of records by revising the Categories of Records in the System, Purposes, Routine Uses of Records Maintained in the System, Including Categories of Users and the Purposes of Such Uses, System Manager and Address, Notification Procedure, and Record Access Procedure, Records Source Categories and Appendix 4. VA is republishing the system notice in its entirety.

DATES: Comments on this new system of records must be received no later than March 13, 2014. If no public comment is received during the period allowed for comment or unless otherwise published in the Federal Register by VA, the new system will become effective March 13, 2014.

ADDRESSES: Written comments concerning the proposed new system of records may be submitted through www.regulations.gov; by mail or hand-delivery to Director, Regulations Management (02REG), Department of Veterans Affairs, 810 Vermont Avenue NW., Room 1068, Washington, DC 20420; or by fax to (202) 273-9026. All comments received will be available for public inspection in the Office of Regulation Policy and Management, Room 1063B, between the hours of 8:00 a.m. and 4:30 p.m., Monday through Friday (except holidays). Please call (202) 461-4902 for an appointment. (This is not a toll free number.) In addition, during the comment period, comments may be viewed online through the Federal Docket Management System at www.regulations.gov.

FOR FURTHER INFORMATION CONTACT: Stephania H. Griffin, Privacy Officer, Veterans Health Administration (VHA), Department of Veterans Affairs, 810 Vermont Avenue NW., Washington, DC 20420, telephone (704) 245-2492.

SUPPLEMENTARY INFORMATION:

Background: VHA is the largest health care provider in the country. VHA collects health care information from its local facilities to evaluate quality of services, clinical resource utilization, and patient safety, as well as to distribute medical information, such as alerts or recalls, track specific diseases, and monitor patients. National-level information is also needed for other activities, such as medical research and the development of National Best Clinical Practice Guidelines and National Quality Standards. VHA gathers this information from a wide variety of sources, including directly from Veterans; from information systems located at VHA medical centers, Veterans Integrated Service Networks (VISN), other VHA facilities, such as the Health Eligibility Center; and Federal departments and agencies such as the U.S. Department of Defense (DoD) and the Food and Drug Administration. As the data is collected, VHA stores it in several national patient databases.

The Categories of Records in the System and the Records Source Categories are being amended to change 24VA19 to 24VA10P2.

The purpose of this system of records is being amended to state that Healthcare Associated Infections and Influenza Surveillance System (HAIISS) data is available to VHA clinicians for the monitoring of, among other things, influenza, emerging infectious diseases or syndromes associated with natural and or bioterrorist activities, pathogen resistance to antimicrobials, and healthcare-associated infections (HAI). Data is also available for transmittal to state/local/Federal public health authorities for reportable diseases, biosurveillance, and Health Information Technology for Economic and Clinical Health Act Meaningful Use requirements purposes.

Routine use 26 has been added to state that health care information may be disclosed to the Food and Drug Administration (FDA), or a person subject to the jurisdiction of the FDA, with respect to FDA-regulated products for purposes of reporting adverse events, product defects or problems, or biological product deviations; tracking products; enabling product recalls, repairs, or replacements; and/or conducting post marketing surveillance.

System Manager and Address, Notification Procedure, and Record Access Procedure are being amended to change from the Austin Automation Center to the Austin Information Technology Center.

Appendix 4 has been amended to remove the Corporate Data Warehouse; Regional Data Warehouses; and Veterans Informatics and Information Computing Infrastructure, which are now located in the Corporate Data Warehouse-VA (172VA10P2), Appendix A. The Electronic Surveillance System for the Early Notification of Community-Based Epidemics is being removed from the Appendix. Master Patient Index is being changed to Master Veteran Index. Also, the Homeless Veterans Registry is being amended to reflect a change in address to Austin Information Technology Center, 1615 Woodward Street, Austin, Texas, 78772.

The notice of amendment and an advance copy of the system notice have been sent to the appropriate Congressional committees and to the Director of Office of Management and Budget (OMB) as required by 5 U.S.C. 552a(r) (Privacy Act) and guidelines issued by OMB (65 FR 77677), December 12, 2000.

Signing Authority

The Secretary of Veterans Affairs, or designee, approved this document and authorized the undersigned to sign and submit the document to the Office of the Federal Register for publication electronically as an official document of the Department of Veterans Affairs. Jose D. Riojas, Chief of Staff, Department of Veteran Affairs, approved this document on January 23, 2014, for publication.

Dated: February 6, 2014.
Robert C. McFetridge,
Director, Office of Regulation Policy and Management, Office of the General Counsel, Department of Veterans Affairs.

121VA10P2

SYSTEM NAME:

National Patient Databases-VA.

SYSTEM LOCATION:

Records are maintained at VA medical centers, VA data processing centers, VISNs and Office of Information field offices. Address location for each VA national patient database is listed in VA Appendix 4 at the end of this document.

CATEGORIES OF INDIVIDUALS COVERED BY THE SYSTEM:

The records contain information for all individuals (1) Receiving health care from VHA, and (2) Providing the health care. Individuals encompass Veterans and their immediate family members, members of the Armed Services, current and former employees, trainees, contractors, subcontractors, consultants, volunteers, and other individuals working collaboratively with VA.

CATEGORIES OF RECORDS IN THE SYSTEM:

The records may include information and health information related to:

1. Patient medical record abstract information including, but not limited to, information from Patient Medical Record—VA (24VA10P2).

2. Identifying information (e.g., name, birth date, death date, admission date, discharge date, gender, Social Security number, taxpayer identification number); address information (e.g., home and/or mailing address, home telephone number, emergency contact information such as name, address, telephone number, and relationship); prosthetic and sensory aid serial numbers; medical record numbers; integration control numbers; information related to medical examination or treatment (e.g., location of VA medical facility providing examination or treatment, treatment dates, medical conditions treated or noted on examination); information related to military service and status;

3. Medical benefit and eligibility information;

4. Patient workload data such as admissions, discharges, and outpatient visits; resource utilization such as laboratory tests, x-rays;

5. Patient Satisfaction Survey Data which include questions and responses;

6. External Peer Review Program (EPRP) data capture;

7. Online Data Collection system supported by Northeast Program Evaluation Center and VHA Support Service Center to include electronic information from all Veteran homeless programs and external sources; and

8. Clinically oriented information associated with My HealtheVet such as secure messages.

AUTHORITY FOR MAINTENANCE OF THE SYSTEM:

Title 38, United States Code, Section 501.

PURPOSES:

The records and information may be used for statistical analysis to produce various management, workload tracking, and follow-up reports; to track and evaluate the ordering and delivery of equipment, services, and patient care; for the planning, distribution, and utilization of resources; to monitor the performance of VISNs; and to allocate clinical and administrative support to patient medical care. The data may be used for VA's extensive research programs in accordance with VA policy. In addition, the data may be used to assist in workload allocation for patient treatment services including provider panel management, nursing care, clinic appointments, surgery, prescription processing, diagnostic and therapeutic procedures; to plan and schedule training activities for employees; for audits, reviews, and investigations conducted by the network directors office and VA Central Office; for quality assurance audits, reviews, and investigations; for law enforcement investigations; and for personnel management, evaluation and employee ratings, and performance evaluations. Survey data will be collected for the purpose of measuring and monitoring national, VISN, and facility-level performance on VHA's Veteran Health Care Service Standards (VHSS) pursuant to Executive Order 12862 and VHA Customer Service Standards Directive. The VHSS are designed to measure levels of patient satisfaction in areas that patients have defined as important in receiving quality, patient-centered health care. Results of the survey data analysis are shared throughout the VHA system. The EPRP data are collected in order to provide medical centers and outpatient clinics with diagnosis and procedure-specific quality of care information. EPRP is a contracted review of care, specifically designated to collect data to be used to improve the quality of care. The Veteran Homeless records and information will be used for case management in addition to statistical analysis to produce various management, workload tracking, and follow-up reports; to track and evaluate the goal of ending Veteran homelessness. HAIISS data will be available to VHA clinicians to use for the monitoring of health care-associated infections and for the transmittal of data to state/local health departments for biosurveillance purposes.

ROUTINE USES OF RECORDS MAINTAINED IN THE SYSTEM, INCLUDING CATEGORIES OF USERS AND THE PURPOSES OF SUCH USES:

To the extent that records contained in the system include information protected by 38 U.S.C. 7332, i.e., medical treatment information related to drug abuse, alcoholism or alcohol abuse, sickle cell anemia or infection with the human immunodeficiency virus; information protected by 38 U.S.C. 5705, i.e., quality assurance records; or information protected by 45 CFR Parts 160 and 164, i.e., individually identifiable health information, such information cannot be disclosed under a routine use unless there is also specific statutory authority permitting the disclosure. VA may disclose protected health information pursuant to the following routine uses where required or permitted by law.

1. VA may disclose on its own initiative any information in this system, except the names and home addresses of Veterans and their dependents, that is relevant to a suspected or reasonably imminent violation of law, whether civil, criminal, or regulatory in nature and whether arising by general or program statute or by regulation, rule or order issued pursuant thereto, to a Federal, state, local, tribal, or foreign agency charged with the responsibility of investigating or prosecuting such violation, or charged with enforcing or implementing the statute, regulation, rule, or order. On its own initiative, VA may also disclose the names and addresses of Veterans and their dependents to a Federal agency charged with the responsibility of investigating or prosecuting civil, criminal, or regulatory violations of law, or charged with enforcing or implementing the statute, regulation, rule, or order issued pursuant thereto.

2. Disclosure may be made to any source from which additional information is requested (to the extent necessary to identify the individual, inform the source of the purpose(s) of the request, and identify the type of information requested), when necessary to obtain or provide information relevant to an individual's eligibility, care history, or other benefits across different Federal, state, or local, public health, health care, or program benefit agencies that improves the quality and safety of health care for our Veterans.

3. Disclosure may be made to a Federal agency in the executive, legislative, or judicial branch, State and local Government or the District of Columbia government in response to its request or at the initiation of VA, in connection with disease tracking, patient outcomes, or other health information required for program accountability.

4. Disclosure may be made to the National Archives and Records Administration and the General Services Administration for records management inspections under authority of Title 44, Chapter 29, of the United States Code.

5. VA may disclose information in this system of records to the Department of Justice (DOJ), either on VA's initiative or in response to DOJ's request for the information, after either VA or DOJ determines that such information is relevant to DOJ's representation of the United States or any of its components in legal proceedings before a court or adjudicative body, provided that, in each case, the agency also determines prior to disclosure that disclosure of the records to the DOJ is a use of the information contained in the records that is compatible with the purpose for which VA collected the records. VA, on its own initiative, may disclose records in this system of records in legal proceedings before a court or administrative body after determining that the disclosure of the records to the court or administrative body is a use of the information contained in the records that is compatible with the purpose for which VA collected the records.

6. Records from this system of records may be disclosed to a Federal agency or to a state or local government licensing board and/or to the Federation of State Medical Boards or a similar non-government entity that maintains records concerning individuals' employment histories or concerning the issuance, retention, or revocation of licenses, certifications, or registration necessary to practice an occupation, profession, or specialty, in order for the agency to obtain information relevant to an agency decision concerning the hiring, retention, or termination of an employee.

7. Records from this system of records may be disclosed to inform a Federal agency, licensing boards, or appropriate non-governmental entities about the health care practices of a terminated, resigned, or retired health care employee whose professional health care activity so significantly failed to conform to generally accepted standards of professional medical practice as to raise reasonable concern for the health and safety of patients receiving medical care in the private sector or from another Federal agency.

8. For program review purposes and the seeking of accreditation and/or certification, disclosure may be made to survey teams of the Joint Commission, College of American Pathologists, American Association of Blood Banks, and similar national accreditation agencies or boards with whom VA has a contract or agreement to conduct such reviews but only to the extent that the information is necessary and relevant to the review.

9. Disclosure may be made to a national certifying body that has the authority to make decisions concerning the issuance, retention, or revocation of licenses, certifications, or registrations required to practice a health care profession, when requested in writing by an investigator or supervisory official of the national certifying body for the purpose of making a decision concerning the issuance, retention, or revocation of the license, certification, or registration of a named health care professional.

10. Records from this system that contain information listed in 5 U.S.C. 7114(b)(4) may be disclosed to officials of labor organizations recognized under 5 U.S.C. Chapter 71 when relevant and necessary to their duties of exclusive representation concerning personnel policies, practices, and matters affecting working conditions.

11. Disclosure may be made to the representative of an employee of all notices, determinations, decisions, or other written communications issued to the employee in connection with an examination ordered by VA under medical evaluation (formerly fitness-for duty) examination procedures or Department-filed disability retirement procedures.

12. VA may disclose information to officials of the Merit Systems Protection Board, or the Office of Special Counsel, when requested in connection with appeals, special studies of the civil service and other merit systems, review of rules and regulations, investigation of alleged or possible prohibited personnel practices, and such other functions, promulgated in 5 U.S.C. 1205 and 1206, or as may be authorized by law.

13. VA may disclose information to the Equal Employment Opportunity Commission when requested in connection with investigations of alleged or possible discriminatory practices, examination of Federal affirmative employment programs, or for other functions of the Commission as authorized by law or regulation.

14. VA may disclose information to the Federal Labor Relations Authority (including its General Counsel) information related to the establishment of jurisdiction, the investigation and resolution of allegations of unfair labor practices, or information in connection with the resolution of exceptions to arbitration awards when a question of material fact is raised; to disclose information in matters properly before the Federal Services Impasses Panel, and to investigate representation petitions and conduct or supervise representation elections.

15. Disclosure of medical record data, excluding name and address, unless name and address are furnished by the requester, may be made to non-Federal research facilities for research purposes determined to be necessary and proper when approved in accordance with VA policy.

16. Disclosure of name(s) and address(s) of present or former personnel of the Armed Services, and/or their dependents, may be made to: (a) a Federal department or agency, at the written request of the head or designee of that agency; or (b) directly to a contractor or subcontractor of a Federal department or agency, for the purpose of conducting Federal research necessary to accomplish a statutory purpose of an agency. When disclosure of this information is made directly to a contractor, VA may impose applicable conditions on the department, agency, and/or contractor to insure the appropriateness of the disclosure to the contractor.

17. Disclosure may be made to individuals, organizations, private or public agencies, or other entities or individuals with whom VA has a contract or agreement to perform such services as VA may deem practicable for the purposes of laws administered by VA, in order for the contractor, subcontractor, public or private agency, or other entity or individual with whom VA has an agreement or contract to perform the services of the contract or agreement. This routine use includes disclosures by the individual or entity performing the service for VA to any secondary entity or individual to perform an activity that is necessary for individuals, organizations, private or public agencies, or other entities or individuals with whom VA has a contract or agreement to provide the service to VA.

18. Disclosure may be made to a congressional office from the record of an individual in response to an inquiry from the congressional office made at the request of that individual.

19. VA may disclose information to a Federal agency for the conduct of research and data analysis to perform a statutory purpose of that Federal agency upon the prior written request of that agency, provided that there is legal authority under all applicable confidentiality statutes and regulations to provide the data and the VHA Office of Information has determined prior to the disclosure that VHA data handling requirements are satisfied.

20. Disclosure of limited individual identification information may be made to another Federal agency for the purpose of matching and acquiring information held by that agency for VHA to use for the purposes stated for this system of records.

21. VA may, on its own initiative disclose any information or records to appropriate agencies, entities, and persons when (1) VA suspects or has confirmed that the integrity or confidentiality of information in the system of records has been compromised; (2) VA has determined that as a result of the suspected or confirmed compromise there is a risk of embarrassment or harm to the reputations of the record subjects, harm to economic or property interests, identity theft or fraud, or harm to the security, confidentiality, or integrity of this system or other systems or programs (whether maintained by VA or another agency or entity) that rely upon the potentially compromised information; and (3) the disclosure is to agencies, entities, or persons whom VA determines are reasonably necessary to assist or carry out VA's efforts to respond to the suspected or confirmed compromise and prevent, minimize, or remedy such harm. This routine use permits disclosures by VA to respond to a suspected or confirmed data breach, including the conduct of any risk analysis or provision of credit protection services as provided in 38 U.S.C. 5724, as the terms are defined in 38 U.S.C. 5727.

22. On its own initiative, VA may disclose to the general public via an Internet Web site, Primary Care Management Module information, including the names of its providers, provider panel sizes and reports on provider performance measures of quality when approved in accordance with VA policy.

23. Disclosure to other Federal agencies may be made to assist such agencies in preventing and detecting possible fraud or abuse by individuals in their operations and programs.

24. VA may disclose names and addresses of present or former members of the Armed Services and/or their dependents under certain circumstances: (a) to any nonprofit organization, if the release is directly connected with the conduct of programs and the utilization of benefits under Title 38, or (b) to any criminal or civil law enforcement governmental agency or instrumentality charged under applicable law with the protection of the public health or safety, if a qualified representative of such organization, agency, or instrumentality has made a written request for such names or addresses for a purpose authorized by law, provided that the records will not be used for any purpose other than that stated in the request and that the organization, agency, or instrumentality is aware of the penalty provision of 38 U.S.C. 5701(f).

25. VA may disclose information, including demographic information, to U.S. Department of Housing and Urban Development (HUD) for the purpose of reducing homelessness among Veterans by implementing the Federal strategic plan to prevent and end homelessness and by evaluating and monitoring the HUD-Veterans Affairs Supported Housing program.

26. VA may disclose health care information to the Food and Drug Administration (FDA), or a person subject to the jurisdiction of the FDA, with respect to FDA-regulated products, for purposes of reporting adverse events; product defects or problems, or biological product deviations; tracking products; enabling product recalls, repairs, or replacements; and/or conducting post marketing surveillance.

POLICIES AND PRACTICES FOR STORING, RETRIEVING, ACCESSING, RETAINING, AND DISPOSING OF RECORDS IN THE SYSTEM:

STORAGE:

Records are maintained on electronic storage media including magnetic tape, disk, laser optical media.

RETRIEVABILITY:

Records are retrieved by name, Social Security number, or other assigned identifiers of the individuals on whom they are maintained.

SAFEGUARDS:

1. Access to and use of national patient databases are limited to those persons whose official duties require such access, and VA has established security procedures to ensure that access is appropriately limited. Information security officers and system data stewards review and authorize data access requests. VA regulates data access with security software that authenticates users and requires individually unique codes and passwords. VA provides information security training to all staff and instructs staff on the responsibility each person has for safeguarding data confidentiality.

2. VA maintains Business Associate Agreements and Non-Disclosure Agreements with contracted resources in order to maintain confidentiality of the information.

3. Physical access to computer rooms housing national patient databases is restricted to authorized staff and protected by a variety of security devices. Unauthorized employees, contractors, and other staff are not allowed in computer rooms. The Federal Protective Service or other security personnel provide physical security for the buildings housing computer rooms and data centers.

4. Data transmissions between operational systems and national patient databases maintained by this system of record are protected by state-of-the-art telecommunication software and hardware. This may include firewalls, encryption, and other security measures necessary to safeguard data as it travels across the VA Wide Area Network. Data may be transmitted via a password protected spreadsheet and placed on the secured share point Web portal by the user that has been provided access to their secure file. Data can only be accessed by authorized personnel from each facility within the Polytrauma System of Care and the Physical Medicine and Rehabilitation Program Office.

5. In most cases, copies of back-up computer files are maintained at off-site locations.

RETENTION AND DISPOSAL:

The records are disposed of in accordance with General Records Schedule 20, item 4. Item 4 provides for deletion of data files when the agency determines that the files are no longer needed for administrative, legal, audit, or other operational purposes.

SYSTEMS AND MANAGER(S) AND ADDRESS:

Officials responsible for policies and procedures; Assistant Deputy Under Secretary for Health for Informatics and Analytics (10P2), Department of Veterans Affairs, 810 Vermont Avenue NW, Washington, DC 20420. Officials maintaining this system of records; Director, National Data Systems (10P2C), Austin Information Technology Center, 1615 Woodward Street, Austin, Texas 78772.

NOTIFICATION PROCEDURE:

Individuals who wish to determine whether this system of records contains information about them should contact the Director of National Data Systems (10P2C), Austin Information Technology Center, 1615 Woodward Street, Austin, Texas 78772. Inquiries should include the person's full name, Social Security number, location and dates of employment or location and dates of treatment, and their return address.

RECORD ACCESS PROCEDURE:

Individuals seeking information regarding access to and contesting of records in this system may write or call the Director of National Data Systems (10P2C), Austin Information Technology Center, 1615 Woodward Street, Austin, Texas 78772, or call the VA National Service Desk and ask to speak with the VHA Director of National Data Systems at (512) 326-6780.

CONTESTING RECORD PROCEDURES:

(See Record Access Procedures above.)

RECORD SOURCE CATEGORIES:

Information in this system of records is provided by Veterans, VA employees, VA computer systems, Veterans Health Information Systems and Technology Architecture, VA medical centers, VA Health Eligibility Center, VA program offices, VISNs, VA Austin Automation Center, the Food and Drug Administration, DoD, HUD, Survey of Healthcare Experiences of Patients, EPRP, and the following Systems Of Records: `Patient Medical Records—VA' (24VA10P2), `National Prosthetics Patient Database—VA' (33VA113), `Healthcare Eligibility Records—VA' (89VA16), VA Veterans Benefits Administration automated record systems (including the Veterans and Beneficiaries Identification and Records Location Subsystem—VA (38VA23), and subsequent iterations of those systems of records.

VA APPENDIX 4

Database name | Location
Addiction Severity Index (ASI) | Veteran Affairs Medical Center, 7180 Highland Drive, Pittsburgh, PA 15206.
Bidirectional Health Information Exchange (BHIE) | SunGard, 1500 Spring Garden Street, Philadelphia, PA 19130.
VA Clinical Assessment Reporting and Tracking (CART) Program | Denver VA Medical Center, 1055 Clermont Street, Denver, CO 80220.
Care Management Information System | Veterans Affairs Medical Center, University and Woodland Aves., Philadelphia, PA 19104.
Consolidated Mail Outpatient Pharmacy (CMOP) Centralized Database System | Southwest CMOP, 3675 East Britannia Drive, Tucson, AZ 85706.
Continuous Improvement in Cardiac Surgery (CICSP) | Veteran Affairs Medical Center, 820 Clermont Street, Denver, CO 80220.
Converged Registries (CR) Solution | Austin Information Technology Center, 1615 Woodward Street, Austin, TX 78772.
Cruetzfelet-Jakob Disease Lookback Dataset (CJDLD) | Cincinnati VA Medical Center, 3200 Vine Street, Cincinnati, OH 45220.
Decision Support System | Austin Information Technology Center, 1615 Woodward Street, Austin, TX 78772.
Dental Encounter System (DES) | Austin Information Technology Center, 1615 Woodward Street, Austin, TX 78772.
Eastern Pacemaker Surveillance Center Database | Veteran Affairs Medical Center, 50 Irving Street, NW Washington, DC 20422.
Emerging Pathogens Initiative (EPI) | Austin Information Technology Center, 1615 Woodward Street, Austin, TX 78772.
Federal Health Information Exchange (FHIE) | SunGard, 1500 Spring Garden Street, Philadelphia, PA 19130.
Financial Clinical Data Mart (FCDM) | Austin Information Technology Center, 1615 Woodward Street, Austin, TX 78772.
Former Prisoner of War Statistical Tracking System | Austin Information Technology Center, 1615 Woodward Street, Austin, TX 78772.
Functional Status and Outcome Database (FSOC) | Austin Information Technology Center, 1615 Woodward Street, Austin, TX 78772.
Healthcare Associated Infections &, Influenza Surveillance System (HAIISS) Data Warehouse | Veteran Affairs Medical Center, 3801 Miranda Avenue, Palo Alto, CA 94304.
Home Based Primary Care (HBC) | Austin Information Technology Center, 1615 Woodward Street, Austin, TX 78772.
Homeless Operational Management &, Evaluation System (HOMES) | Austin Information Technology Center, 1615 Woodward Street, Austin, Texas 78772.
Homeless Veterans Registry | Austin Information Technology Center, 1615 Woodward Street, Austin, TX 78772.
Interagency Care Coordination Committee's Community of Practice Co-Lab | 5450 Carlisle Pike, Mechanicsburg, PA 17050.
Injury Data Store | Austin Information Technology Center, 1615 Woodward Street, Austin, TX 78772.
Mammography Quality Standards (MQS) VA | Veteran Affairs Medical Center, 508 Fulton Street, Durham, NC 27705.
Master Veteran Index | Austin Information Technology Center, 1615 Woodward Street, Austin, TX 78772.
Medical SAS File (MDP) (Medical District Planning (MEDIPRO)) | Austin Information Technology Center, 1615 Woodward Street, Austin, TX 78772.
Missing Patient Register (MPR) | Austin Information Technology Center, 1615 Woodward Street, Austin, TX 78772.
National Mental Health Database System (NMHDS) | Veteran Affairs Medical Center, 7180 Highland Drive, Pittsburgh, PA 15206.
National Medical Information System (NMIS) | Austin Information Technology Center, 1615 Woodward Street, Austin, TX 78772.
National Survey of Veterans (NSV) | Austin Information Technology Center, 1615 Woodward Street, Austin, TX 78772.
Office of Quality and Performance (OQP) | OQP Data Center, 601 Keystone Park Dr. Suite 800, Morrisville, NC 27560.
Parkinson's Disease Research, Education, and Clinical Centers Registry (PADRECC) | Veterans Affairs Medical Center, 4150 Clement St., San Francisco,, CA 94121.
Patient Assessment File (PAF) | Austin Information Technology Center, 1615 Woodward Street, Austin, TX 78772.
Pharmacy Benefits Management (PBM) | Veterans Affairs Medical Center, 5th Avenue and Roosevelt Road, Hines, IL 60141.
Radiation Exposure Inquiries Database | Office of Information Field Office, 1335 East/West Hwy., Silver Spring, MD 20910.
Remote Order Entry System (ROES) | Denver Distribution Center, 155 Van Gordon Street, Lakewood, CO 80228-1709.
Resident Assessment Instrument/Minimum Data Set (RAI/MDS) | Austin Information Technology Center, 1615 Woodward Street, Austin, TX 78772.
Short Form Health Survey for Veterans (SF-36V) | Veterans Affairs Medical Center, 200 Springs Rd., Bedford, MA 01730.
VA National Clozapine Registry (NCCC) | Veteran Affairs Medical Center, 4500 South Lancaster Road, Dallas, TX 75216.
VA Polytrauma Rehabilitation Center/Traumatic Brain Injury (TBI) Model System Database | Craig Hospital, 3425 S. Clarkson St., Englewood, CO 80113.
VA Vital Status File (VSF) | Austin Information Technology Center, 1615 Woodward Street, Austin, TX 78772.
Veterans Administration Central Cancer Registry (VACCR) | Veteran Affairs Medical Center, 50 Irving Street, NW, Washington, DC 20422.

[FR Doc. 2014-02890 Filed 2-10-14; 8:45 am]

BILLING CODE 8320-01-P